DEPARTMENT OF HOMELAND SECURITY

Federal Emergency Management Agency

44 CFR Part 65

[Docket No. FEMA-B-7797]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Jefferson | City of Birmingham (08-04-2759P) | June 20, 2008; June 27, 2008; The Birmingham News | The Honorable Larry P. Langford, Mayor, City of Birmingham, 710 North 20th Street, Birmingham, AL 35203 | July 28, 2008 | 010116
Colorado: Adams | City of Thornton (08-08-0377P) | June 5, 2008; June 12, 2008; Northglenn-Thornton Sentinel | The Honorable Erik Hansen, Mayor, City of Thornton, 9500 Civic Center Drive, Thornton, CO 80229 | October 10, 2008 | 080007
Connecticut: Hartford | City of Bristol (08-01-0505P) | June 25, 2008; July 2, 2008; The Hartford Courant | The Honorable Arthur Ward, Mayor, City of Bristol, City Hall, 111 North Main Street, Bristol, CT 06010 | June 11, 2008 | 090023
Florida: Seminole | City of Winter Springs (08-04-4157P) | June 18, 2008; June 25, 2008; Orlando Sentinel | The Honorable John F. Bush, Mayor, City of Winter Springs, 21 Tarpon Circle, Winter Springs, FL 32708 | October 23, 2008 | 120295
Hawaii: Maui | Unincorporated areas of Maui County (07-09-1848P) | February 21. 2008; February 28, 2008; Maui News | The Honorable Charmaine Tavares, Mayor, Maui County, 200 South High Street, Wailuku, HI 96793 | February 12, 2008 | 150003
Idaho: Madison | Unincorporated areas of Madison County (08-10-0206P) | July 3, 2008; July 10, 2008; Standard Journal | The Honorable Ralph Robison, Chairman, Madison County, Board of Commissioners, P.O. Box 389, Rexburg, ID 83440 | June 16, 2008 | 160217
Illinois:
Lake | Unincorporated areas of Lake County (08-05-1098P) | June 5, 2008; June 12, 2008; Lake County News-Sun | The Honorable Suzi Schmidt, Chair, Lake County Board, 18 North County Street, Room 1001, Waukegan, IL 60085 | October 10, 2008 | 170357
Lake | Village of Lake Barrington (08-05-1098P) | June 5, 2008; June 12, 2008; Lake County News-Sun | The Honorable Kevin Richardson, President, Village of Lake Barrington, 23860 Old Barrington Road, Lake Barrington, IL 60010 | October 10, 2008 | 170372
Lake | Village of North Barrington (08-05-1098P) | June 5, 2008; June 12, 2008; Lake County News-Sun | The Honorable Bruce J. Sauer, President, Village of North Barrington, 111 Old Barrington Road, North Barrington, IL 60010 | October 10, 2008 | 170383
Minnesota: Anoka | City of Blaine (08-05-1446P) | June 6, 2008; June 13, 2008; Blaine-Spring Lake Park Life | The Honorable Thomas Ryan, Mayor, City of Blaine, 10801 Town Square Drive Northeast, Blaine, MN 55449 | October 13, 2008 | 270007
Missouri:
St. Charles County | Unincorporated areas of St. Charles County (08-07-0068P) | June 25, 2008; July 2, 2008; St. Charles Journal | The Honorable Steve Ehlmann, County Executive, St. Charles County, St. Charles County Courthouse, 100 North Third Street, St. Charles, MO 63301 | October 30, 2008 | 290315
St. Charles County | City of St. Peters (08-07-0068P) | June 25, 2008; July 2, 2008; St. Charles Journal | The Honorable Len Pagano, Mayor, City of St. Peters, One St. Peters Centre Boulevard, St. Peters, MO 63376 | October 30, 2008 | 290319
Montana: Flathead | Unincorporated areas of Flathead County (08-08-0430P) | June 13, 2008; June 20, 2008; Daily Inter Lake | The Honorable Gary D. Hall, Chairman, Flathead County, Board of Commissioners, 800 South Main Street, Kalispell, MT 59901 | June 2, 2008 | 300023
Nevada: Clark | Unincorporated areas of Clark County (07-09-1612P) | July 8, 2008; July 15, 2008; Las Vegas Review-Journal | The Honorable Rory Reid, Chair, Clark County Board of Commissioners, 500 South Grand Central Parkway, Las Vegas, NV 89106 | November 12, 2008 | 320003
Pennsylvania:
Lackawanna | City of Scranton (07-03-0177P) | April 28, 2008; May 5, 2008; The Scranton Times Tribune | The Honorable Christopher A. Doherty, Mayor, City of Scranton, 340 North Washington Avenue, Scranton, PA 18503 | September 2, 2008 | 420538
Lackawanna | Borough of Taylor (07-03-0177P) | April 28, 2008; May 5, 2008; The Scranton Times Tribune | The Honorable Richard Bowen, Mayor, Borough of Taylor, 122 Union Street, Taylor, PA 18517 | September 2, 2008 | 420539
Tennessee:
Coffee | City of Tullahoma (07-04-5627P) | May 14, 2008; May 21, 2008; The Tullahoma News | The Honorable Troy Bisby, Mayor, City of Tullahoma, 201 West Grundy Street, Tullahoma, TN 37388 | September 18, 2008 | 470036
Wilson | City of Lebanon (08-04-1439P) | May 28, 2008; June 4, 2008; The Wilson Post | The Honorable Robert Dedman, Mayor, Wilson County, 228 East Main Street, Room 104, Lebanon, TN 37087 | May 16, 2008 | 270208
Texas:
Bexar | City of San Antonio (07-06-0823P) | June 26, 2008; July 3, 2008; San Antonio Express News | The Honorable Phil Hardberger, Mayor, City of San Antonio, P.O. Box 839966, San Antonio, TX 78283 | October 31, 2008 | 480045
Collin | City of McKinney (07-06-1407P) | June 26, 2008; July 3, 2008; McKinney Courier Gazette | The Honorable Bill Whitfield, Mayor, City of McKinney, 222 North Tennessee Street, McKinney, TX 75069 | October 31, 2008 | 480135
Ellis | City of Waxahachie (08-06-0662P) | May 28, 2008; June 4, 2008; Waxahachie Daily Light | The Honorable Joe Jenkins, Mayor, City of Waxahachie, P.O. Box 757, Waxahachie, TX 75165 | October 2, 2008 | 480211
Harris | Unincorporated areas of Harris County (07-06-2077P) | July 2, 2008; July 9, 2008; Houston Chronicle | The Honorable Ed Emmett, Harris County Judge, 1001 Preston Street, Suite 911, Houston, TX 77002 | October 30, 2008 | 480287
Tarrant | City of Fort Worth (07-06-2613P) | May 30, 2008; June 6, 2008; Fort Worth Star-Telegram | The Honorable Michael J. Moncrief, Mayor, City of Fort Worth, 1000 Throckmorton Street, Fort Worth, TX 76102 | September 29, 2008 | 480596
Virginia: Independent City | City of Winchester (08-03-0801P) | May 8, 2008; May 15, 2008; The Winchester Star | The Honorable Elizabeth Minor, Mayor, City of Winchester, 231 East Piccadilly Street, Suite 310, Winchester, VA 22601 | September 12, 2008 | 510173
Wisconsin:
Dodge | Unincorporated areas of Dodge County (07-05-4832P) | June 19, 2008; June 26, 2008; Watertown Daily Times | The Honorable Russell E. Kottke, Chairman, Dodge County, Board of Supervisors, 127 East Oak Street, Beaver Dam, WI 53039 | October 24, 2008 | 550094
Dodge | City of Watertown (07-05-4832P) | June 19, 2008; June 26, 2008; Watertown Daily Times | The Honorable Ron Krueger, Mayor, City of Watertown, P.O. Box 477, Watertown, WI 53094 | October 24, 2008 | 550107
Ozaukee | Unincorporated areas of Ozaukee County (08-05-1362P) | June 5, 2008; June 12, 2008; Ozaukee Press | The Honorable Robert Brooks, Chairman, Ozaukee County Board, P.O. Box 994, Port Washington, WI 53074-0994 | October 10, 2008 | 550310

(Catalog of Federal Domestic Assistance No. 97.022, “Flood Insurance.”)

Dated: July 25, 2008.
Edward L. Connor,
Deputy Assistant Administrator for Insurance, Department of Homeland Security, Federal Emergency Management Agency.

[FR Doc. E8-18530 Filed 8-11-08; 8:45 am]

BILLING CODE 9110-12-P